Executive Order 13964 of December 10, 2020

Rebranding United States Foreign Assistance To Advance American Influence

By the authority vested in me as President by the Constitution and the laws of the United States of America, including the Foreign Assistance Act of 1961 (22 U.S.C. 2151 et seq.) (FAA), as amended, and section 301 of title 3, United States Code, it is hereby ordered as follows:

Section 1. Policy. To foster goodwill between the recipients of United States foreign assistance and the American people, and to encourage the governments of nations that are receiving foreign assistance to support the United States, it is essential that recipients of United States foreign assistance be aware of the manifold efforts of American taxpayers to aid them and improve their lives. To further this awareness and to ensure United States foreign assistance supports the foreign policy objectives of the United States and maintains American influence and leadership, such assistance must appropriately and conspicuously be identified as American aid.

Sec. 2. Establishment of Standard Federal Marking Regulations. (a) Within 120 days of the date of this order, the Secretary of State (Secretary), in coordination with the Administrator of the United States Agency for International Development (Administrator) and the heads of other executive departments and agencies (agencies), as appropriate, shall initiate notice-and-comment rulemaking to brand and mark all United States foreign assistance provided under the FAA or any other law, including all assistance provided under humanitarian assistance or disaster relief programs, appropriately as “American aid,” consistent with section 641 of the FAA (22 U.S.C. 2401). Such rulemaking to establish Federal marking regulations shall include proposing any amendments necessary to any existing regulations that may be appropriate to implement the directives set forth in this order. The agencies subject to these regulations shall implement them as soon as possible after they are finalized.

(b) For the purposes of the standard Federal marking regulations described in section 2(a) of this order:

(i) Within 30 days of the date of this order, the President will select a logo that embodies the values and generosity of the American people (“single logo”); and

(ii) The single logo shall be prominently displayed on all materials related to United States foreign assistance programs, projects, and activities; on all communications and public affairs materials; on all foreign assistance goods and materials, and all packaging of such goods and materials; and on all rebranding of export packaging. The requirement to display the single logo shall not apply to purely administrative, non-deliverable items of contractors and recipients of United States foreign assistance or to the corporate or non-project materials of agencies that are not tied to projects funded under the FAA, and shall not require the rebranding of completed projects or products overseas.

(c) Within 120 days of the date of this order, agencies that are not otherwise subject to existing regulations related to the branding and marking of United States foreign assistance shall identify, to the extent permitted by law, United States foreign assistance goods, materials, and packaging solely with the single logo, and shall amend or rescind any agency procedures or guidance inconsistent with this directive. This identification requirement applies to goods, materials, and packaging provided through non-governmental organizations and implementing partners contracted directly by or receiving funds from the United States Government consistent with subsection (b)(ii) of this section. This requirement applies, to the maximum extent practicable, to the obligation of any funds for such items after the date of this order. In instances of joint funding agreements with other donor governments, international organizations, or other parties, the single logo may be co-marked.

(d) Within 120 days of the date of this order, agencies not otherwise governed subject to regulations related to the branding and marking of United States foreign assistance shall not, unless required by law, display their logos on United States foreign assistance goods and materials or the export packaging of foreign assistance goods and materials when the single logo is used as required under subsection (b)(ii) of this section, and shall amend or rescind as necessary any agency procedures or guidance inconsistent with this directive.

(e) For purposes of subsection (b)(ii) of this section, absent the application of a specific statutory or regulatory exemption, the single logo shall be used unless the Secretary, in coordination with the Administrator and the heads of any other relevant agencies, determines that its use in connection with a certain type of aid or in a particular geographic area would raise compelling political, safety, or security concerns; or that its use would undermine the objectives of the United States in providing such aid. Any such determination to waive the single logo requirement must be made in writing. The Secretary may delegate this waiver authority, but such waiver authority shall not be delegated below the Under Secretary level within the Department of State. The Secretary may delegate this waiver authority to the Administrator, who may redelegate it to the Deputy Administrator, provided that the Secretary authorizes such redelegation.

Sec. 3. Report. Within 180 days of the date of this order, and annually thereafter, the Secretary, in coordination with the Administrator and the heads of other relevant agencies, as appropriate, shall submit to the President, through the Assistant to the President for National Security Affairs, a report on the implementation of this order.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 10, 2020.

[FR Doc. 2020-27740

Filed 12-14-20; 11:15 am]

Billing code 3295-F1-P